DEPARTMENT OF THE INTERIOR

Bureau of Land Management

[L14400000.LLAZ920000.ET0000.223.AZA-38445]

Notice of Proposed Withdrawal and Notice of Public Meetings, Arizona

AGENCY: Bureau of Land Management, Interior.

ACTION: Notice.

SUMMARY: On behalf of the Bureau of Land Management (BLM) and subject to valid existing rights, the Secretary of the Interior proposes to withdraw 21,200 acres of public lands from all forms of appropriation under the public land laws, including location and entry under the United States mining laws, and from leasing under the mineral and geothermal leasing laws, and 800 acres of Federal surface estate public lands from appropriation under the public land laws, located in La Paz and Yuma Counties, Arizona, for up to 5 years while a land management evaluation is completed. Publication of this notice temporarily segregates the lands for a period ending on April 4, 2024, initiates a 90-day public comment period and announces that the BLM will hold public meetings on the proposed withdrawal.

DATES: Comments must be received by September 28, 2022. In addition, the BLM will host virtual public meetings addressing the requested withdrawal and the associated environmental review process. The dates and instructions for the public meetings are listed in the SUPPLEMENTARY INFORMATION Section.

ADDRESSES: All comments and meeting requests should be sent to the BLM Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Michael Ouellett, Realty Specialist, BLM Arizona State Office, telephone: (602) 417-9561, email at mouellett@blm.gov; or you may contact the BLM office at the address noted earlier. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The BLM and the Department of the Army (Army) are engaged in an evaluation of the Yuma Proving Ground (YPG) expansion, identified as the Highway 95 Addition, pending processing of the Army's application for withdrawal of public land for defense purposes under the Engle Act of February 28, 1958, (43 U.S.C. 155-158). The BLM's application does not request reservation of the lands for the Army for defense purposes. This notice invites members of the public; state, local, and Tribal governments; and other stakeholders to provide the BLM with information relevant to address potential impacts to existing multiple-uses and resources from such a withdrawal, including but not limited to impacts to mineral and geothermal resources. The BLM has filed a petition/application requesting the Secretary of the Interior withdraw the following described public lands from all forms of appropriation under the public land laws, including location and entry under the United States mining laws, and from leasing under the mineral and geothermal leasing laws for up to 5 years, subject to valid existing rights:

Gila and Salt River Meridian, Arizona

(Surface and Subsurface)

T. 1 N., R. 19 W.,

Sec. 4, that part lying westerly of the westerly right-of-way of U.S. Route 95;

Secs. 5 and 8;

Sec. 9, that part lying westerly of the westerly right-of-way of U.S. Route 95;

Secs. 17 and 20;

Secs. 21 and 28, those portions lying westerly of the westerly right-of-way of U.S. Route 95;

Sec. 29;

Sec. 33, that part lying westerly of the westerly right-of-way of U.S. Route 95.

T. 2 N., R. 19 W.,

Sec. 33, S½SW¼, and S½SE¼, that part lying westerly of the westerly right-of-way of U.S. Route 95.

T. 1 S., R. 19 W.,

Secs. 4 thru 9 and Secs. 16 thru 21;

Sec. 28, that part lying westerly of the westerly right-of-way of U.S. Route 95;

Secs. 29 thru 32;

Sec. 33, that part lying westerly of the westerly right-of-way of U.S. Route 95.

T. 2 S., R. 19 W.,

Sec. 4, that part lying westerly of the westerly right-of-way of U.S. Route 95;

Secs. 5 thru 7;

Sec. 8, that part lying westerly of the westerly right-of-way of U.S. Route 95, excepting NE¼SW¼NW¼SE¼, W½SE¼NW¼SE¼, and NW¼NE¼SW¼SE¼;

Sec. 9, that part lying westerly of the westerly right-of-way of U.S. Route 95;

Sec. 17, that part lying westerly of the westerly right-of-way of U.S. Route 95, excepting S½ SW ¼;

Sec. 18;

Sec. 19, lots 1 thru 4, NW¼ NE¼, and E½NW¼;

Sec. 30, lot 1.

The areas described aggregate approximately 21,200 acres.

Additionally, the BLM's petition/application is requesting the Secretary of the Interior to withdraw the following described Federal surface estate public lands from all forms of appropriation under the public land laws for up to 5 years, subject to valid existing rights:

Gila and Salt River Meridian, Arizona

(Surface Only; Subsurface Excepted—Non-Federal Ownership)

T. 1 N., R. 19 W.,

Sec. 32.

T. 2 N., R. 19 W.,

Sec. 32, S½SW¼, and S½SE¼.

The areas described aggregate approximately 800 acres.

This petition/application has been approved for publication by the Deputy Secretary of the Interior and therefore constitutes a withdrawal proposal of the Secretary of the Interior (43 CFR 2310.1-3(e)).

The use of a rights-of-way, interagency agreement, or cooperative agreement would not adequately constrain non-discretionary uses that may result in disturbance of the lands embraced within the Highway 95 Addition.

No additional water rights are needed to fulfill the purpose of this new withdrawal.

There are no suitable alternative sites since these lands are identical to the Army's YPG Highway 95 Addition application lands.

The BLM is preparing an environmental assessment under the National Environmental Policy Act to evaluate the proposed withdrawal. Information regarding the proposed withdrawal, including environmental and other reviews, will be available at the BLM Arizona State Office and at https://go.usa.gov/xtJKC.

Before including your address, phone number, email address, or other personal identifying information in your comment, you should be aware that your entire comment, including your personal identifying information, may be made publicly available at any time. While you can ask us in your comment to withhold your personal identifying information from public review, we cannot guarantee that we will be able to do so.

Notice is hereby given for public meetings in connection with the proposed withdrawal. In response to the coronavirus (COVID-19) pandemic in the United States, and the U.S. Centers for Disease Control and Prevention recommendations for social distancing and avoidance of large public gatherings, the BLM will not hold in-person public meetings for this action. The BLM will host the public meetings online and by telephone. There will be online public meetings scheduled for September 20, 2022 at 3 p.m. and September 21, 2022, at 5 p.m. Mountain Standard Time. The BLM will publish the instructions on how to access the online meetings in the Yuma Sun (Yuma), Bajo El Sol (Yuma), and Desert Messenger (Quartzsite) newspapers at a minimum of 15 days prior to the meeting and on the website: https://go.usa.gov/xtJKC.

For a period until April 4, 2024, the 21,200 acres of Federal surface and subsurface estate public lands specified above will be segregated from all forms of appropriation under the public land laws, including location and entry under the United States mining laws, and from leasing under the mineral and geothermal leasing laws, subject to valid existing rights, and the 800 acres of Federal surface estate public lands specified above will be segregated from appropriation under the public land laws, subject to valid existing rights, unless the application is denied or canceled, or the withdrawal is approved prior to that date. Licenses, permits, cooperative agreements, or discretionary land-use authorizations of a temporary nature may be allowed with the approval of an authorized officer of the BLM during the segregation period.

This application will be processed in accordance with the regulations set-forth in 43 CFR 2300.

(Authority: 43 U.S.C. 1714(b)(1) and 43 CFR 2300)

Raymond Suazo,
Arizona State Director.

[FR Doc. 2022-14032 Filed 6-29-22; 8:45 am]

BILLING CODE 4310-32-P